DEPARTMENT OF TRANSPORTATION

Federal Aviation Administration

14 CFR Part 71

[Docket No. FAA-2007-28022; Airspace Docket No. 07-ASO-7]

Establishment of Class E Airspace; Centreville, AL; Correction

AGENCY: Federal Aviation Administration (FAA), DOT.

ACTION: Correcting amendment.

SUMMARY: This document contains a correction to the final rule (FAA-2007-28022; 07-ASO-7), which was published in the Federal Register of July 11, 2007, (72 FR 37629), establishing Class E airspace at Centreville, AL. This action corrects an error in the legal description.

DATES: Effective Date: Effective 0901 UTC, October 25, 2007. The Director of the Federal Register approves this incorporation by reference action under title 1, Code of Federal Regulations, part 51, subject to the annual revision of FAA Order 7400.9 and publication of conforming amendments.

FOR FURTHER INFORMATION CONTACT: Mark D. Ward, Manager, System Support Group, Eastern Service Center, Federal Aviation Administration, P.O. Box 20636, Atlanta, Georgia 30320; telephone (404) 305-5627.

SUPPLEMENTARY INFORMATION:

Background

Federal Register Document 07-3345, Docket No. FAA-2007-28022; 07-ASO-7, published on July 11, 2007, (72 FR 37629), establishes Class E5 airspace at Centreville, AL. The geographical coordinates for the airport have changed since the document was published. In the legal description for the Class E5 airspace, the geographical coordinates, lat. 32°56′12″ N, long. 87°05′20″ W, have changed to lat. 32°56′13″ N, long. 87°05′26″ W. This action corrects this error. Designations for Class E Airspace Areas Extending Upward from 700 feet or More Above the Surface of the Earth are published in FAA Order 7400.9P, Airspace Designations and Reporting Points, dated September 1, 2006, and effective September 15, 2006, which is incorporated by reference in 14 CFR 71.1. The Class E airspace designation listed in this document will be published subsequently in the Order.

Need for Correction

As published, the final rule contains an error in the legal description of the Class E5 airspace area. Accordingly, pursuant to the authority delegated to me, the legal description for the Class E5 airspace area at Centreville, AL, incorporated by reference at § 71.1, 14 CFR 71.1, and published in the Federal Register on July 11, 2007, (72 FR 37629), is corrected by making the following correcting amendment.

List of Subjects in 14 CFR Part 71

Airspace, Incorporation by reference, Navigation (air).

In consideration of the foregoing, the Federal Aviation Administration corrects the adopted amendment, 14 CFR part 71, by making the following correcting amendment:

PART 71—[AMENDED]

1. The authority citation for part 71 continues to read as follows:

Authority: 49 U.S.C. 106(g); 40103, 40113, 40120; E.O. 10854, 24 FR 9565, 3 CFR, 1959-1963 Comp., p. 389.

§ 71.1 [Corrected]

2. The incorporation by reference in 14 CFR 71.1 of Federal Aviation Administration Order 7400.9P, Airspace Designations and Reporting Points, dated September 1, 2006, and effective September 15, 2006, is amended as follows:

Paragraph 6005 Class E Airspace Areas Extending Upward From 700 Feet or More Above the Surface of the Earth.

* * * * *

ASO AL E5 Centreville, AL [New]

Bibb County Airport, AL

(Lat. 32°56′13″ N, long. 87°05′26″ W)

That airspace extending upward from 700 feet above the surface within a 6.4-mile radius of Bibb County Airport.

* * * * *

On page 37629, column 3, line 3 of the legal description, correct the geographical coordinates from “lat. 32°56′12″ N, long. 87°05′20″ W” to “lat. 32°56′13″ N, long. 87°05′26″ W”.

* * * * *

Issued in College Park, Georgia, on June 26, 2007.
Barry A. Knight,
Acting Manager, System Support Group.

[FR Doc. 07-4108 Filed 8-22-07; 8:45 am]

BILLING CODE 4910-13-M